DEPARTMENT OF THE INTERIOR

Bureau of Land Management

43 CFR Part 3100

[Docket No. BLM-2025-0140; A2407-014-004-065516; #O2412-014-004-047181.1]

RIN 1004-AF43

Revision to Regulations Regarding Oil and Gas Leasing; Stipulations and Information Notices

AGENCY: Bureau of Land Management, Interior.

ACTION: Direct final rule; request for comments.

SUMMARY: This direct final rule (DFR) removes existing Bureau of Land Management (BLM) regulations pertaining to stipulations and mitigation measures to effectuate changes required by the “One Big Beautiful Bill Act” (OBBB) enacted on July 4, 2025.

DATES: This DFR is effective September 30, 2025, unless significant adverse comments are received by September 2, 2025. If significant adverse comments are received, notice will be published in the Federal Register before the effective date either withdrawing the rule or issuing a new final rule that responds to any significant adverse comments.

ADDRESSES: You may submit comments by one of the following methods:

• Federal eRulemaking Portal: https://www.regulations.gov. In the Search box, enter the Docket Number “BLM-2025-0140” and click the “Search” button. Follow the instructions at this website.

• Mail, personal, or messenger delivery: U.S. Department of the Interior, Director (630), Bureau of Land Management, 1849 C St. NW, Room 5646, Washington, DC 20240, Attention: 1004-AF43.

FOR FURTHER INFORMATION CONTACT: Peter Cowan, Senior Minerals Leasing Specialist, email: picowan@blm.gov, telephone: 720-838-1641. Individuals in the United States who are deaf, deafblind, hard of hearing, or have a speech disability may dial 711 (TTY, TDD, or TeleBraille) to access telecommunications relay services. Individuals outside the United States should use the relay services offered within their country to make international calls to the point-of-contact in the United States.

For a summary of the final rule, please see the abstract description of the document in Docket Number BLM-2025-0140 on www.regulations.gov.

SUPPLEMENTARY INFORMATION: Oil and gas leasing on Federal lands managed by the BLM is governed primarily by the Mineral Leasing Act of 1920 (MLA), 30 U.S.C. 181 et seq. Section 226 of the MLA sets out the general provisions governing oil and gas leasing on Federal lands, and section 226(a) provides the Secretary with the authority to lease the lands, as more fully set out in the succeeding subsections of section 226. The Department's regulations implementing the provisions of section 226 of the MLA are found in 43 CFR part 3100.

Section 50101(d) of the OBBB amended the MLA by removing the existing language in section 226(a) and replacing it with new language that requires the Secretary to make lands in an expression of interest (EOI) available for leasing within 18 months of receipt of an EOI, subject to enumerated conditions. It adds a new subparagraph requiring any leases issued under the MLA to be subject to the terms and conditions of an approved resource management plan (RMP) and prohibits the Secretary from including any stipulations or mitigation in a lease, unless such stipulations or mitigation are included in an approved RMP. Section 50101(d) also provides that initiation of an amendment to an RMP will not prevent the Secretary from leasing land, provided the other requirements of the section have been met.

To implement this statutorily required change, the BLM has determined that 43 CFR 3101.13(a) and (b) must be revised to reflect the prohibition on including stipulations or mitigation measures not included in an approved RMP. Specifically, the BLM is removing the existing language in 43 CFR 3101.13(a) and replacing it with the following:

(a) Leases issued by the BLM will include only those stipulations and mitigation measures included in the resource management plan covering that parcel of land that is being leased.

Further, the BLM is removing 43 CFR 3101.13(b) its entirety since the majority of the language no longer complies with the statute. The last sentence in 43 CFR 3101.13(b) has been moved into 43 CFR 3101.13(a). The remaining paragraphs of 43 CFR 3101.13 will be redesignated as required based on the removal of paragraph (b).

Because this new provision restricts the BLM's authority to include stipulations and mitigation measures in the leases that it issues beyond those that are already contemplated in an approved RMP, the BLM believes the regulated community is best served by including this change now rather than waiting for the publication of any broader revisions to its oil and gas leasing regulations. To the extent required, any other regulatory revisions that are necessary due to the enactment of section 50101(d) of the OBBB will be included in the BLM's overall revisions to part 3100.

The BLM has determined that enactment of the OBBB, independently and alone, justifies the revisions to 43 CFR 3101.13(a) and (b). The BLM has no interest in maintaining a regulation that no longer reflects the existing statutory obligations and could lead to confusion if left in place.

The BLM is issuing this rule as a DFR. Although the Administrative Procedure Act (APA, 5 U.S.C. 551 through 559) generally requires agencies to engage in notice and comment rulemaking, section 553 of the APA provides an exception when the agency “for good cause finds” that notice and comment are “impracticable, unnecessary, or contrary to the public interest.” Id. 553(b)(B). The BLM has determined that notice and comment are unnecessary because the revisions for this rule implement requirements for which the agency has no discretion; and is unlikely to receive any significant adverse comments. Significant adverse comments are those that oppose the revision of the rule and raise, alone or in combination, (1) Reasons why the revision of the rule is inappropriate, including challenges to the revision's underlying premise; or (2) Serious unintended consequences of the revision. A comment recommending an addition to the rule will not be considered significant and adverse unless the comment explains how this DFR would be ineffective without the addition.

Procedural Matters

Executive Order (E.O.) 12630—Governmental Actions and Interference With Constitutionally Protected Property Rights

This rule does not result in a taking of private property or otherwise have regulatory takings implications under E.O. 12630. The rule revises one provision that no longer reflects statutory authority and removes another one that is no longer supported by section 226(a) of the MLA as amended by section 5101(d) of the OBBB. The rule will not result in private property being taken for public use without just compensation. A takings implication assessment is not required.

E.O. 12866—Regulatory Planning and Review and E.O. 13563—Improving Regulation and Regulatory Review

E.O. 12866 provides that the Office of Information and Regulatory Affairs (OIRA) in the Office of Management and Budget (OMB) will review all significant rules. OIRA has determined that this rule is not significant.

E.O. 13563 reaffirms the principles of E.O. 12866, while calling for improvements in the Nation's regulatory system to promote predictability, reduce uncertainty, and use the best, most innovative, and least burdensome tools for achieving regulatory ends. E.O. 13563 directs agencies to consider regulatory approaches that reduce burdens and maintain flexibility and freedom of choice for the public where these approaches are relevant, feasible, and consistent with regulatory objectives. E.O. 13563 emphasizes further that agencies must base regulations on the best available science and that the rulemaking process must allow for public participation and an open exchange of ideas. The BLM developed this rule in a manner consistent with these requirements.

E.O. 12988—Civil Justice Reform

This DFR complies with the requirements of E.O. 12988. Among other things, this rule:

(a) Meets the criteria of section 3(a) requiring that all regulations be reviewed to eliminate errors and ambiguity and be written to minimize litigation;

(b) Meets the criteria of section 3(b)(2) requiring that all regulations be written in clear language and contain clear legal standards.

E.O. 13132—Federalism

Under the criteria of section 1 of E.O. 13132, this rule does not have sufficient federalism implications to warrant the preparation of a federalism summary impact statement. This rule will not have substantial direct effects on the States, on the relationship between the national government and the States, or on the distribution of power and responsibilities among the various levels of government. A federalism summary impact statement is not required.

E.O. 13175—Consultation and Coordination With Indian Tribal Governments

The Department of the Interior strives to strengthen its government-to-government relationship with Indian tribes through a commitment to consultation with Tribes and recognition of their right to self-governance and Tribal sovereignty. The BLM evaluated this DFR under E.O. 13175 and the Department's consultation policies and determined that it has no substantial direct effects on federally recognized Indian tribes and that consultation under the Department's Tribal consultation policies is not required. The rule merely revises the Federal regulations to revise obsolete regulatory language.

E.O. 13211—Actions Concerning Regulations That Significantly Affect Energy Supply, Distribution, or Use

This DFR is not a significant energy action as defined in E.O. 13211. Therefore, a Statement of Energy Effects is not required.

National Environmental Policy Act (NEPA)

This DFR does not constitute a major Federal action significantly affecting the quality of the human environment. A detailed statement under NEPA) (42 U.S.C. 4321 et seq.) is not required because this rule is covered by a categorical exclusion applicable to regulatory functions “that are of an administrative, financial, legal, technical, or procedural nature.” 43 CFR 46.210(i). In addition, the BLM has determined that this rule does not involve any of the extraordinary circumstances listed in 43 CFR 46.215 that would require further analysis under NEPA.

Paperwork Reduction Act

This rule does not impose any new information collection burden under the Paperwork Reduction Act. OMB previously approved the information collection activities contained in the existing regulations and assigned OMB control number 1004-0185. This rule does not impose an information collection burden because the Department is not making any changes to the information collection requirements.

Regulatory Flexibility Act

The Regulatory Flexibility Act (RFA, 5 U.S.C. 601-612) requires an agency to prepare a regulatory flexibility analysis for all rules unless the agency certifies that the rule will not have a significant economic impact on a substantial number of small entities. The RFA applies only to rules for which an agency is required to first publish a proposed rule. See 5 U.S.C. 603(a) and 604(a). As the BLM is not required to publish a notice of proposed rulemaking for this DFR, the RFA does not apply.

Congressional Review Act

This DFR is not a major rule under the Congressional Review Act, 5 U.S.C. 804(2). Specifically, the DFR: (a) Will not have an annual effect on the economy of $100 million or more; (b) Will not cause a major increase in costs or prices for consumers, individual industries, Federal, State, or local government agencies, or geographic regions; and (c) Will not have significant adverse effects on competition, employment, investment, productivity, innovation, or on the ability of United States-based enterprises to compete with foreign-based enterprises in domestic and export markets.

Unfunded Mandates Reform Act

This rule does not impose an unfunded mandate on State, local, or Tribal governments, or the private sector, of more than $100 million per year. The rule does not have a significant or unique effect on State, local, or Tribal governments, or the private sector. The rule merely revises the Federal regulations to revise a provision to reflect a new statutory requirement and remove one that is no longer authorized by the statute. Therefore, a statement containing the information required by the Unfunded Mandates Reform Act (2 U.S.C. 1531 et seq.) is not required.

List of Subjects in 43 CFR Part 3100

Government contracts, Government employees, Mineral royalties, Oil and gas exploration, Oil and gas reserves, Public lands—mineral resources, Reporting and recordkeeping requirements, Surety bonds.

Adam G. Suess,
Acting Assistant Secretary, Land and Minerals Management.

For the reasons stated in the preamble, the Bureau of Land Management amends 43 CFR part 3100 as follows:

PART 3100—OIL AND GAS LEASING

1. The authority citation for part 3100 continues to read as follows:

Authority: 25 U.S.C. 396d and 2107; 30 U.S.C. 189, 306, 359, and 1751; 43 U.S.C. 1701 et seq.; and 42 U.S.C. 15801.

2. Revise § 3101.13 to read as follows:

§ 3101.13 Stipulations and information notices.

(a) Leases issued by the BLM will include only those stipulations and mitigation measures included in the resource management plan covering that parcel of land that is being leased.

(b) The BLM may attach an information notice to the lease. An information notice has no legal consequences, except to give notice of existing requirements, and may be attached to a lease by the authorized officer at the time of lease issuance to convey certain operational, procedural or administrative requirements relative to lease management within the terms and conditions of the standard lease form. Information notices may not be a basis for denial of lease operations.

(c) Where the surface managing agency is the Fish and Wildlife Service, leases will be issued subject to stipulations prescribed by the Fish and Wildlife Service as to the time, place, nature and condition of such operations in order to minimize impacts to fish and wildlife populations and habitat and other refuge resources on the areas leased. The specific conduct of lease activities on any refuge lands will be subject to site-specific stipulations prescribed by the Fish and Wildlife Service.

[FR Doc. 2025-14625 Filed 7-31-25; 8:45 am]

BILLING CODE 4331-29-P